DEPARTMENT OF THE INTERIOR

National Park Service

Notice of Request for Reinstatement and Revision of a Currently Approved Information Collection

SUMMARY: In accordance with the Paperwork Reduction Act of 1995, this notice announces the National Park Service's intention to request reinstatement and revision of a currently approved information collection in support of its Concession Management Program based on reestimates.

DATES: Comments on this notice must be received no later than April 24, 2000.

ADDITIONAL INFORMATION OR COMMENTS: Contact Cynthia Orlando, Chief, Concession Program Division, National Park Service, 1849 C Street, NW, Washington, DC 20013 or 202/565-1210.

SUPPLEMENTARY INFORMATION:

Title: Submission of Offers for Concession Opportunities.

OMB Number: 1024-0125.

Expiration Date of Approval: March 31, 2000.

Type of Request: Reinstatement and revision of a currently approved information collection.

Abstract: The National Park Service (NPS) authorizes private businesses known as concessioners to provide necessary and appropriate visitor facilities and services in areas of the National Park System. The NPS issues prospectuses to advise interested parties of concession business opportunities and to solicit offers from all parties interested in specific opportunities.

Section 403(1) of the National Park Service Concessions Management Improvement Act of 1998 (P.L. 105-391) requires that proposed concession contracts be awarded by the Secretary of the Interior to the person or entity submitting the best proposal as determined by the Secretary through a competitive selection process. Section 403(5) of the Act further provides that in selecting the best proposal, the Secretary shall consider the following principal factors:

a. The responsiveness of the proposal to the objectives of protecting, conserving and preserving resources of the unit of the National Park System and of providing necessary and appropriate facilities and services to the public at reasonable rates;

b. The experience and related background of the person, corporation or entity submitting the proposal, including past performance and expertise of such person, corporation or entity in providing the same or similar facilities or services;

c. The financial capability of the person, corporation, or entity submitting the proposal; and

d. The proposed franchise fee, except that consideration of revenue to the United States shall be subordinate to the objectives of protecting, conserving, and preserving resources of the unit of the National Park System and of providing necessary and appropriate facilities to the public at reasonable rates.

The information requested in each prospectus is used to evaluate all offers received and determine which among them is the best offer for purposes of contract award. Specific information on the experience and background of the person(s) or entity, the financial capabilities of each offeror, their financial and operational plans, the franchise fee offered, and the proposed term of contract are requested in each prospectus issued by the NPS. The amount of information or degree of detail requested varies widely, depending upon the size and scope of the business opportunity. For example, a much greater amount of detailed information would be required for a multi-unit food and lodging operation such as that at Yellowstone, than would be required for a small firewood sales operation. Without such information, the NPS would be unable to objectively evaluate offers received for a particular business opportunity, and would be unable to assure that the park resources will be adequately protected, or to determine which offeror would provide the best service to visitors at reasonable rates, and the greatest overall return to the Government.

Estimate of Burden:

For large operations—approximately 480 hours per response.

For small operations—approximately 240 hours per response.

Estimated Number of Respondents:

Large operations—approximately 150.

Small operations—approximately 200.

Estimated Number of Responses per Respondent: One.

Estimated Total Annual Burden on Respondents:

Large operations—72,000 hours.

Small operations—47,000 hours.

A sample copy of this information collection can be obtained from Cynthia Orlando, Chief, Concession Program Division, at 202/565-1212.

Send comments regarding the accuracy of the burden estimate, ways to minimize the burden, including the use of automated collection techniques or other forms of information technology, or any other aspect of this collection of information to Cynthia Orlando, Chief, Concession Program Division, National Park Service, 1849 C Street, NW, Washington, DC 20240.

All responses to this notice will be summarized and included in the request for OMB Approval. All comments will also become a matter of public record.

Dated: February 11, 2000.
Denis P. Galvin,
Acting Director, National Park Service.

[FR Doc. 00-4054 Filed 2-18-00; 8:45 am]

BILLING CODE 4310-70-P